DEPARTMENT OF TRANSPORTATION

Federal Aviation Administration

Agency Information Collection Activities: Requests for Comments; Clearance of Renewed Approval of Information Collection: Air Traffic Slots Management

AGENCY: Federal Aviation Administration (FAA), DOT.

ACTION: Notice and request for comments.

SUMMARY: In accordance with the Paperwork Reduction Act of 1995, FAA invites public comments about our intention to request the Office of Management and Budget (OMB) approval of a new information collection. The FAA collects information to allocate slots and maintain accurate records of slot transfers at slot-controlled and schedule-facilitated airports. The information is provided by air carriers and other operators at all impacted airports.

DATES: Written comments should be submitted by August 11, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ronda Thompson, (202) 267-1416, or by email at: Ronda.Thompson@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-xxxx.

Title: Air Traffic Slots Management.

Form Numbers: No FAA forms associated with this collection.

Type of Review: New information collection.

Background: The Federal Register Notice with a 60-day comment period soliciting comments on the following collection of information was published under 2120-0524 on October 13, 2016 (81 FR 70736). There were no comments. The FAA has implemented several initiatives to address congestion and delay issues within the National Airspace System. The FAA has issued Orders limiting operations at John F. Kennedy International Airport (JFK), Newark Liberty International Airport (EWR), and LaGuardia Airport (LGA). These Orders resulted in part from increasing congestion and delays at the airports requiring the FAA to allocate arrival and departure slots at JFK, EWR, and LGA. On April 6, 2016, the FAA announced a reduction in slot controls at EWR and designation of EWR as a Level 2, schedule-facilitated airport under the International Air Transport Association (IATA) Worldwide Slot Guidelines (WSG) based on an updated demand and capacity analysis of the airport. This change was effective from the Winter 2016 scheduling season, which began on October 30, 2016. The FAA also has designated O'Hare International Airport (ORD), San Francisco International Airport (SFO), and Los Angeles International Airport (LAX) as Level 2 airports under the IATA WSG. These Level 2 designations resulted in part from increasing congestion and delays at the airports requiring FAA to implement a voluntary process to manage operational growth at ORD and SFO. The Level 2 designation was made at LAX due to a long-term construction project expected to reduce runway capacity; therefore, the designation is not expected to continue beyond the completion of the planned construction at LAX. The information is reported to the FAA by carriers holding a slot at JFK or LGA; by carriers operating at EWR, LAX, ORD, or SFO; and by operators conducting unscheduled operations at LGA. At JFK, carriers must notify the FAA of: (1) Requests for confirmation of transferred slots; (2) requests for seasonal allocation of historic and additional available slots; and (3) usage of slots on a seasonal basis. At LGA, carriers must notify the FAA of: (1) Requests for confirmation of transferred slots; (2) slots required to be returned or slots voluntarily returned; (3) requests to be included in a lottery for available slots; and (4) usage of slots on a bi-monthly basis. At LGA, unscheduled operators must request and obtain a reservation from the FAA prior to conducting an operation. At EWR, LAX, ORD and SFO, carriers are asked to notify the FAA of their intended operating schedules during peak hours on a semiannual basis. The FAA estimates that all information from carriers is submitted electronically from information stored in carrier scheduling databases, and that nearly all requests for unscheduled operation reservations are submitted electronically through either an internet or touch-tone system interface.

Respondents: 200 carriers at various airports; unknown number of unscheduled operators at LaGuardia Airport.

Frequency: Information is collected as needed; some reporting on bimonthly or semiannual basis.

Estimated Average Burden per Response: 2 minutes per unscheduled operation reservation; 6 minutes per notice of slot transfer; 2 hour per schedule submission or slot request; and 2 hours per slot usage report.

Estimated Total Annual Burden: 5,049.5 hours.

Issued in Washington, DC, on June 28, 2017.
Ronda L Thompson,
FAA Information Collection Clearance Officer, Performance, Policy & Records Management Branch, ASP-110.

[FR Doc. 2017-14046 Filed 7-11-17; 8:45 am]

BILLING CODE 4910-13-P